DEPARTMENT OF THE INTERIOR

Fish and Wildlife Service

Endangered Species Recovery Permit Applications

AGENCY: Fish and Wildlife Service, Interior.

ACTION: Notice of receipt of permit applications; request for comment.

SUMMARY: We invite the public to comment on the following applications to conduct certain activities with endangered species.

DATES: Comments on these permit applications must be received on or before December 17, 2007.

ADDRESSES: Written data or comments should be submitted to the U.S. Fish and Wildlife Service, Chief, Endangered Species, Ecological Services, 911 NE. 11th Avenue, Portland, Oregon 97232-4181 (telephone: 503-231-2063; fax: 503-231-6243). Please refer to the respective permit number for each application when submitting comments. All comments received, including names and addresses, will become part of the official administrative record and may be made available to the public.

FOR FURTHER INFORMATION CONTACT: Linda Belluomini, Fish and Wildlife Biologist, at the above Portland address (telephone: 503-231-2063; fax: 503-231-6243).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests.

Permit No. TE-043638

Applicant: Directorate of Public Works, U.S. Army, Schofield Barracks, Hawaii.

The permittee requests an amendment to take (capture and release, band, collect biological samples, and conduct nest searches) the Oahu elepaio (Chasiempis sandwichensis ibidis) in conjunction with genetic and disease research, and life history studies, on the Island of Oahu in the State of Hawaii, for the purpose of enhancing its survival.

Permit No. TE-146768

Applicant: Arleone Dibben-Young, Kaunakakai, Molokai, Hawaii.

The permittee requests an amendment to take (collect biological samples) the Hawaiian coot (Fulica americana alai) in conjunction with avian influenza research on the Island of Molokai in the State of Hawaii for the purpose of enhancing its survival.

Public Review of Comments

We solicit public review and comment on these recovery permit applications. Before including your address, phone number, e-mail address, or other personal identifying information in your comment, you should be aware that your entire comment—including your personal identifying information—may be made publicly available at any time. While you can ask us in your comment to withhold your personal identifying information from public review, we cannot guarantee that we will be able to do so.

Comments and materials received will be available for public inspection, by appointment, during normal business hours at the above address.

Dated: September 24, 2007.
Renne R. Lohoefener,
Regional Director, Region 1, U.S. Fish and Wildlife Service.

[FR Doc. E7-22414 Filed 11-15-07; 8:45 am]

BILLING CODE 4310-55-P